NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 1, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-04-16, 3 items, 3 temporary items). Records relating to correcting computer hardware and software problems associated with Y2K. Included are such documents as laboratory working records, agency certifications, contracts, implementation files, repair and renovation records, and testing records. Also included are electronic copies of records created using electronic mail and word processing.

2. Department of the Army, Agency-wide (N1-AU-04-1, 4 items, 4 temporary items). Practitioner credentialing files consisting of diplomas, licenses, board certifications, and other documentation used for granting clinical privileges to medical personnel at hospitals and other medical facilities. Also included are electronic copies of records created using electronic mail and word processing.

3. Department of Homeland Security, Transportation Security Administration (N1-560-04-4, 28 items, 19 temporary items). Records of the Office of Communications and Public Information. Included are such records as communication files, reading files, broadcast e-mail messages, program management files, reports and statistics, planning records, working papers, visitor files, and video library collections. Also included are electronic copies of records created using electronic mail and word processing. Proposed for permanent retention are recordkeeping copies of such files as communications policy records, photographs, sound recordings, and video recordings, briefing materials, internal newsletters, press releases, and speeches.

4. Department of Homeland Security, Transportation Security Administration (N1-560-04-5, 12 items, 9 temporary items). Correspondence, air carrier contact list case files and related databases, audit reports, financial transaction reports, airline bankruptcy claims, revenue forecasting records, and policy development files accumulated by the Office of Revenue. Also included are electronic copies of records created using electronic mail and word processing. Proposed for permanent retention are recordkeeping copies of rulemaking files, policy statements, and records concerning compensation disbursements to air carriers.

5. Department of Homeland Security, Federal Emergency Management Agency (N1-311-04-1, 3 items, 3 temporary items). Electronically received and processed grants records, including applications, financial reports, and status reports. Also included are electronic copies of records created using electronic mail and word processing.

6. Department of Homeland Security, Bureau of Citizenship and Immigration Services (N1-563-03-5, 4 items, 3 temporary items). Duplicates of rulemaking docket case files that are accumulated by offices other than the originating office. Included are such records as development plans, notices of intent to regulate, preliminary drafts, comments, copies of published rules/regulations, background summaries, memorandums, and correspondence. Also included are electronic copies of records created using electronic mail and word processing. Proposed for permanent retention are recordkeeping copies of rulemaking files created by the originating office.

7. Department of Homeland Security, Bureau of Immigration and Customs Enforcement (N1-567-04-2, 19 items, 7 temporary items). Budget formulation files, including working papers, cost statements, budget estimates and justifications, rough data and similar materials used in the preparation of the Federal Air Marshal Service's annual budget. Also included are electronic copies of records created using electronic mail and word processing. Proposed for permanent retention are recordkeeping copies of organizational files, directives, audiovisual materials, legal opinions, speeches and press materials, emergency planning files, strategic planning files, agency history files, and agency publications.

8. Department of Justice, Drug Enforcement Administration (N1-170-04-4, 2 items, 2 temporary items). Federal Register notices and supporting documentation accumulated by the Office of the Chief Counsel. Also included are electronic copies of records created using electronic mail and word processing.

9. Department of State, Bureau of Administration (N1-59-04-7, 1 item, 1 temporary item). Log of incoming and outgoing airgrams for the period 1971 to 1983.

10. Department of Transportation, Federal Motor Carrier Safety Administration (N1-557-04-1, 30 items, 30 temporary items). Records created by agency Field Operations. Included are such records as budget background files, chronological files, complaints files, conference files, driver disqualification files, motor carrier case files, motor carrier grant files, motor carrier safety management studies, occupational health and safety files, safety program files, and technical reference files. The proposed disposition instructions apply to both paper and electronic versions of the records. Also included are electronic copies of records created using electronic mail and word processing.

11. Department of Transportation, Federal Aviation Administration (N1-237-02-5, 13 items, 13 temporary items). Records relating to air traffic control. Included are such records as voice recordings, flight plans, pre-flight briefing logs, aircraft flight contact records, and National Airspace System printouts and data extraction recordings.

12. Environmental Protection Agency, Office of Research and Development Laboratories (N1-412-04-6, 3 items, 2 temporary items). Records relating to scientific research projects that support agency rulemaking. Included are electronic and paper records relating to the maintenance and calibration of scientific equipment and electronic copies of records created using electronic email and word processing. Proposed for permanent retention are recordkeeping copies of research project case files.

13. Environmental Protection Agency, Office of Research and Development Laboratories (N1-412-04-7, 3 items, 3 temporary items). Scientific research project files pertaining to basic, exploratory research. Files include such records as reports, research plans, questionnaires, quality assurance project plans, lab notebooks, raw data, and correspondence. Also included are electronic and paper records relating to the maintenance and calibration of scientific equipment as well as electronic copies of records created using electronic email and word processing.

14. Environmental Protection Agency, Office of Research and Development Laboratories (N1-412-04-9, 4 items, 4 temporary items). Software programs, inputs, electronic data, and documentation associated with an electronic system that serves as a repository for metadata about agency projects, data sets and databases, models, and other documents used or created during environmental projects.

Dated: September 10, 2004.
Michael J. Kurtz,
Assistant Archivist for Records Services—Washington, DC.

[FR Doc. 04-20954 Filed 9-16-04; 8:45 am]

BILLING CODE 7515-01-P